DEPARTMENT OF TRANSPORTATION

Federal Railroad Administration

[Docket No. FRA-2022-0054]

Request for Information Regarding FRA's Public Blocked Crossing Portal

AGENCY: Federal Railroad Administration (FRA), Department of Transportation (DOT).

ACTION: Request for information (RFI).

SUMMARY: Section 22404 of the Infrastructure Investment and Jobs Act, also known as the Bipartisan Infrastructure Law (BIL), requires FRA to maintain a blocked crossing portal to receive information from the public regarding blocked highway-rail grade crossings. Section 22404 of BIL also requires FRA to submit a report that describes the nature of blocked highway-rail grade crossings, FRA's process for reviewing and using information received through the blocked crossing portal, FRA's engagement with affected parties, and whether the blocked crossing portal continues to be an effective method to collect blocked crossing information and what changes could improve its effectiveness. This RFI is soliciting comments on how FRA's engagement with affected parties and changes to the portal and related operations can improve the effectiveness of the portal.

DATES: Written comments on this RFI must be received on or before August 15, 2022. FRA will consider comments filed after this date to the extent practicable.

ADDRESSES:

Comments: Comments related to this RFI may be submitted by going to https://www.regulations.gov and following the online instructions for submitting comments.

Instructions: All submissions must include the agency name and docket number (FRA-2022-0054) for this RFI. Please note that comments submitted online via www.regulations.gov are not immediately posted to the docket. Several business days may elapse after a comment has been submitted online before it is posted to the docket.

Privacy Act: DOT solicits comments from the public to better inform its regulatory process. DOT posts these comments, without edit, to www.regulations.gov, as described in the system of records notice, DOT/ALL-14 FDMS, accessible through www.dot.gov/privacy. To facilitate comment tracking and response, commenters are encouraged to provide their name, or the name of their organization; however, submission of names is completely optional. Whether or not commenters identify themselves, all timely comments will be fully considered. If you wish to provide comments containing proprietary or confidential information, please contact the agency for alternate submission instructions.

Docket: For access to the docket to read comments received, please visit https://www.regulations.gov and follow the online instructions for accessing the docket.

FOR FURTHER INFORMATION CONTACT: For further information related to this RFI, please contact James Payne, Staff Director, Highway-Rail Crossing and Trespasser Programs Division (telephone: 202-493-6005, email: james.payne@dot.gov).

SUPPLEMENTARY INFORMATION: In 2019, FRA created a dedicated blocked crossing portal website (https://www.fra.dot.gov/blockedcrossings/) to allow the public to voluntarily submit information about blocked crossings to FRA.¹ Users of FRA's blocked crossing portal are asked to provide information about the location, date, time, duration, and immediate impacts of each blocked crossing incident. FRA uses the data collected to gain information about where and when blocked crossing incidents are occurring (as well as the duration and immediate impacts of these incidents). FRA does not, however, forward the information collected to a railroad, State, or local agency for response.

¹ Law enforcement personnel can also submit information about blocked crossings to FRA through a separate portal, access to which is restricted to law enforcement personnel with usernames and passwords managed by FRA.

In addition to mandating that FRA maintain an online portal and corresponding database to receive and store information about blocked highway-rail grade crossings, section 22404(i) of BIL requires FRA to submit a report to Congress that discusses, among other things, whether FRA's blocked crossing portal continues to be an effective method to collect blocked crossing information, as well as changes that could be made to improve its effectiveness. Specifically, section 22404 of BIL requires FRA to submit a report that describes: (1) frequent and long-duration blocked highway-rail grade crossings, including the locations, dates, durations, and impacts resulting from such occurrences; (2) FRA's process for verifying the accuracy of the complaints submitted to the blocked crossing portal; (3) FRA's use of the data compiled by the blocked crossing portal to assess the underlying causes and overall impacts of blocked crossings; (4) FRA's engagement with affected parties to identify and facilitate solutions to frequent and long-duration blocked highway-rail grade crossings identified by the blocked crossing portal; and (5) whether the blocked crossing portal continues to be an effective method to collect blocked crossing information and what changes could improve its effectiveness.

Therefore, FRA is issuing this RFI to solicit public comment on changes that could be made to FRA's blocked crossing portal to improve its effectiveness. Specifically, FRA is looking for public comment on how the information reported to the blocked crossing portal can be used to improve safety at grade crossings and the well-being of affected communities.

FRA is also seeking public comment and feedback on additional information that should be captured by the blocked crossing portal. In particular, FRA would like to know what additional information the public and industry would like to see captured on this site. In addition, FRA would like to know how it can improve the user experience of the blocked crossing portal website.

Interested parties are invited to submit comments to the electronic docket in response to this RFI. Please refer to the ADDRESSES section above for guidance on how to submit comments to the electronic docket.

Issued in Washington, DC.
Carolyn R. Hayward-Williams,
Director, Office of Railroad Systems and Technology.

[FR Doc. 2022-12785 Filed 6-13-22; 8:45 am]

BILLING CODE 4910-06-P